DEPARTMENT OF COMMERCE

U.S. Census Bureau

Proposed Information Collection; Comment Request; Census in Schools and Partnership Program Research

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 21, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Megan C. Kindelan, U.S. Census Bureau, 4600 Silver Hill Road, Suitland, MD 20746, (301) 763-2820 (w), megan.c.kindelan@census.gov.

SUPPLEMENTARY INFORMATION:

I. Abstract

For the 2010 Census, among many integrated communications outreach efforts, the U.S. Census Bureau conducted the Census in Schools (CIS) Program and the Partnership Program (PP) with three primary objectives: (1) To increase the mail-back response rate of census forms; (2) to improve the accuracy and reduce differential undercount; and (3) to increase cooperation with enumerators in the field during the census data collection period. The CIS Program educated primary and secondary school students about the 2010 Census; the students, in turn, would influence their parents in returning the 2010 Census forms. The Census Bureau distributed materials, including promotional brochures, take-home materials, fact sheets, lesson plans, maps, quick start teaching guides, and other aids to increase the proportion of households returning completed 2010 Census forms. The Census Bureau distributed these materials to more than 118,000 schools representing grades Kindergarten through 12th grade. Some of these materials were in the form of printed copies. Hundreds of thousands of additional copies were downloaded in electronic form from the 2010 Census in Schools Web site.

At the same time, the Census Bureau also conducted the Partnership Program, involving commercial entities of national scope, state, local and tribal governments, and regional and local corporations and organizations. The purpose of the Partnership Program was to target historically “hard-to-count” (HTC) areas and increase the Census form mail-back rates. More than 257,000 partners participated in this program.

The Census Bureau needs to conduct collect and analyze qualitative data to address the following research questions: (a) What new methods can the Census Bureau use going forward, during the intercensal years, to reach out to educators and students from kindergarten to the graduate level to maintain strong relationships with the education community; (b) what are the needs of executive-level educators regarding statistical literacy and the types of materials Federal statistical agencies could provide to be most helpful with regards to statistics education, from the most basic level (kindergarten) to the most advanced (graduate studies); and (c) what can be done to improve the Census Partnership Program going forward and how best to maintain an active base of partners between censuses.

II. Method of Collection

The qualitative information will be collected via focus groups and interviews. The Census Bureau proposes to conduct 6 focus groups of primary, secondary, and college level administrators and teachers, with a maximum of 15 individuals per group to discuss questions concerning the Census in Schools Program and how it can be improved during the intercensal years as well as for the 2020 Census. Additionally, the Census Bureau is proposing to conduct 6 focus groups for organizations that participated in the Partnership Program for the 2010 Census, with a maximum of 15 individuals per focus group. Telephone interviews will also be conducted with 30 Partnership Program organizations to obtain data from those partners who are not able to attend the focus group sessions.

III. Data

OMB Control Number: None.

Form Number: None.

Type of Review: Regular submission.

Affected Public: School administrators and Teachers; representatives of corporations, and not-for-profit organizations.

Estimated Number of Respondents: 210.

Estimated Time per Response: 90 minutes per focus group session; 30 minutes per interview.

Estimated Total Annual Burden Hours: 285.

Estimated Total Annual Cost: There is no cost to respondents other than their time.

Respondent's Obligation: Voluntary.

Legal Authority: Title 13 U.S.C. Section 141.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 14, 2011.
Glenna Mickelson,
Management Analyst, Office of the Chief Information Officer.

[FR Doc. 2011-1116 Filed 1-19-11; 8:45 am]

BILLING CODE 3510-07-P